DEPARTMENT OF ENERGY

Federal Energy Regulatory Commission

[Docket No. CP00-375-000]

K N Energy, a Division of Kinder Morgan, Inc.; Notice of Application

June 9, 2000.

Take notice that on June 2, 2000, K N Energy, a division of Kinder Morgan, Inc. (K N Retail), 370 Van Gordon Street, Lakewood, Colorado 80228, filed in Docket No. CP00-375-000 an application pursuant to Section 7(f) of the Natural Gas Act (NGA) for a service area determination, a finding that K N Retail qualifies as a local distribution company for purposes of section 311 of the Natural Gas Policy Act (NGPA), and for a waiver of the Commission's regulatory requirements, including reporting and accounting requirements applicable to natural gas companies under the NGA and NGPA, all as more fully set forth in the application which is on file with the Commission and open to public inspection. This filing may be viewed on the web at http://www.ferc.fed.us/online/rims.htm (call 202-208-2222 for assistance).

K N Retail proposes to acquire from Kinder Morgan Interstate Gas Transmission LLC (KMIGT), the Ovid-Julesberg lateral that crosses from Nebraska into Colorado, and two additional laterals that are located in Deuel County Nebraska and Sedgwick County Colorado, namely the Chappell and Big Springs laterals. The service area, it is said, would be the entirety of the Counties of Deuel in Nebraska and Sedgwick in Colorado.

K N Retail states that no other company provides distribution services in the proposed service area.

Any person desiring to participate in the hearing process or to make any protest with reference to said application should on or before June 30, 2000, file with the Federal Energy Regulatory Commission, 888 First Street, NE., Washington, DC 20426, a motion to intervene or a protest in accordance with the requirements of the Commission's Rules of Practice and Procedure (18 CFR 385.214 and 3285.211) and the Regulations under the Natural Gas Act (18 CFR 157.10). All protests filed with the Commission will be considered by it in determining the appropriate action to be taken but will not serve to make the protestants parties to the proceeding. The Commission's rules require that protestors provide copies of their protests to the party or parties directly involved. Any person wishing to become a party in any proceeding herein must file a motion to intervene in accordance with the Commission's rules.

Take further notice that, pursuant to the authority contained in and subject to the jurisdiction conferred upon the Commission by sections 7 and 15 of the Natural Gas Act and the Commission's Rules of Practice and Procedure, a hearing will be held without further notice before the Commission or its designee on this application if no motion to intervene is filed within the time required herein, if the Commission on its own review of the matter finds that granting the certificates is required by the public convenience and necessity. If a motion for leave to intervene is timely filed, or if the Commission on its own motion believes that formal hearing is required, further notice of such hearing will be duly given.

Under the procedure herein provided for, unless otherwise advised, it will be unnecessary for K N Retail to appear or to be represented at the hearing.

Linwood A. Watson, Jr.
Acting Secretary.

[FR Doc. 00-15092 Filed 6-14-00; 8:45 am]

BILLING CODE 6717-01-M